DEPARTMENT OF THE INTERIOR

National Park Service

[NPS-WASO-NAGPRA-NPS0034766; PPWOCRADN0-PCU00RP14.R50000]

Notice of Inventory Completion: Arkansas Archeological Survey, Fayetteville, AR

AGENCY: National Park Service, Interior.

ACTION: Notice.

SUMMARY: In accordance with the Native American Graves Protection and Repatriation Act (NAGPRA), the Arkansas Archeological Survey (ARAS) has completed an inventory of human remains and has determined that there is no cultural affiliation between the human remains and any Indian Tribe. The human remains were removed from locations in Arkansas and Oklahoma.

DATES: Disposition of the human remains in this notice may occur on or after November 28, 2022.

ADDRESSES: Sarah Shepard, Arkansas Archeological Survey, 2475 N Hatch Avenue, Fayetteville, AR 72704, telephone (479) 575-6552, email nagpra@uark.edu.

SUPPLEMENTARY INFORMATION: This notice is published as part of the National Park Service's administrative responsibilities under NAGPRA. The determinations in this notice are the sole responsibility of the ARAS. The National Park Service is not responsible for the determinations in this notice. Additional information on the determinations in this notice, including the results of consultation, can be found in the inventory or related records held by the ARAS.

Description

At an unknown time, human remains representing, at minimum, two individuals were removed from “Criney Hills, OK.” In 2021, these human remains were transferred to the Arkansas Archeological Survey by the Arkansas Tech Museum. No known individuals were identified. No associated funerary objects are present.

At an unknown time, human remains representing, at minimum, one individual were removed from “near Current River on Bigger Farm.” In 2021, these human remains were transferred to the Arkansas Archeological Survey by the Arkansas Tech Museum. No known individual was identified. No associated funerary objects are present.

At an unknown time, human remains representing, at minimum, one individual were removed from “near Atkins Mound.” In 2021, these human remains were transferred to the Arkansas Archeological Survey by the Arkansas Tech Museum. No known individual was identified. No associated funerary objects are present.

At an unknown time, human remains representing, at minimum, 61 individuals were removed from unknown locations in Arkansas. In 2021, these human remains were transferred to the Arkansas Archeological Survey by the Arkansas Tech Museum. No known individuals were identified. No associated funerary objects are present.

Aboriginal Land

The human remains in this notice were removed from known geographic locations. These locations are the aboriginal lands of one or more Indian Tribes. The following information was used to identify the aboriginal land: final judgments of the Indian Claims Commission.

Determinations

Pursuant to NAGPRA and its implementing regulations, and after consultation with the appropriate Indian Tribes, the ARAS has determined that:

• The human remains described in this notice represent the physical remains of 65 individuals of Native American ancestry.

• No relationship of shared group identity can be reasonably traced between the human remains and associated funerary objects and any Indian Tribe.

• The human remains and associated funerary objects described in this notice were removed from the aboriginal land of the Caddo Nation of Oklahoma; Quapaw Nation (previously listed as The Quapaw Tribe of Indians); The Osage Nation (previously listed as Osage Tribe); and the Tunica-Biloxi Indian Tribe.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after November 28, 2022. If competing requests for disposition are received, the ARAS must determine the most appropriate requestor prior to disposition. Requests for joint disposition of the human remains are considered a single request and not competing requests. The ARAS is responsible for sending a copy of this notice to the Indian Tribes identified in this notice.

Authority: Native American Graves Protection and Repatriation Act, 25 U.S.C. 3003, and the implementing regulations, 43 CFR 10.9 and § 10.11.

Dated: October 19, 2022.
Melanie O'Brien,
Manager, National NAGPRA Program.

[FR Doc. 2022-23401 Filed 10-26-22; 8:45 am]

BILLING CODE 4312-52-P